DEPARTMENT OF HEALTH AND HUMAN SERVICES

Health Resources and Service Administration

Charter Amendment National Advisory Council on the National Health Service Corps

AGENCY: Health Resources and Service Administration (HRSA), Department of Health and Human Services (HHS).

ACTION: Notice.

SUMMARY: In accordance with the Federal Advisory Committee Act (FACA), HHS is hereby giving notice that the National Advisory Council on the National Health Service Corps (NACNHSC) Charter is amended. The effective date is February 20, 2020.

FOR FURTHER INFORMATION CONTACT: Diane Fabiyi-King, Designated Federal Official (DFO), Division of National Health Service Corps (NHSC), HRSA. Address: 5600 Fishers Lane, Room 14N110, Rockville, Maryland 20857; phone (301) 443-3609; or email DFabiyi-King@hrsa.gov.

SUPPLEMENTARY INFORMATION:

The NACNHSC consults, advises, and makes annual recommendations to the Secretary of HHS and the Administrator, HRSA, with respect to their NHSC related responsibilities under Subpart II, Part D of Title III of the PHS Act (42 U.S.C. 254d-254k), as amended, to designate areas of the United States with health professional shortages and assign NHSC clinicians to improve the delivery of health services in health professional shortage areas.

The amended charter for NACNHSC was approved on February 20, 2020, which will also stand as the filing date. NACNHSC is exempt from Section 14 of the FACA, as stated in section 337(c) of the Public Health Service (PHS) Act. This amended charter will remain in effect until amended or section 337 of the PHS Act is repealed by law.

A copy of the NACNHSC amended charter is available on the NACNHSC website at https://nhsc.hrsa.gov/nac-charter.html. A copy of the amended charter also can be obtained by accessing the FACA database that is maintained by the Committee Management Secretariat under the General Services Administration. The website address for the FACA database is http://www.facadatabase.gov/.

Maria G. Button,
Executive Secretariat.

[FR Doc. 2020-04088 Filed 2-27-20; 8:45 am]

BILLING CODE 4165-15-P